DEPARTMENT OF ENERGY

Proposed Agency Information Collection

AGENCY: U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments must be filed by September 2, 2008. If you anticipate difficulty in submitting comments within that period, contact the person listed in Addresses as soon as possible.

ADDRESSES: Send comments to Alice Lippert. Written comments may be sent to Office of Electricity Delivery and Energy Reliability (Attn: Comments on Refinery Disruption and Incident Report), OE-30, Forrestal Building, U.S. Department of Energy, Washington, DC 20585 or by fax at 202-586-2623, or by e-mail at Alice.Lippert@hq.doe.gov. To ensure receipt of the comments by the due date, submission by FAX or e-mail to is recommended. Alternatively, Alice Lippert may be contacted by telephone at 202-586-9600.

FOR FURTHER INFORMATION CONTACT: Requests for additional information should be directed to Alice Lippert using the contact information listed above.

SUPPLEMENTARY INFORMATION: This information collection request contains:

(1) OMB No.: New.

(2) Information Collection Request Title: Refinery Disruption and Incident Report.

(3) Type of Review: New.

(4) Purpose:

(4)(I). Background;

(4)(II). Current Actions;

(4)(III). Request for Comments.

(4)(I). Background

Section 202(b) of the Department of Energy Organization Act ((DOE Act), Pub. L. 95-91, 42 U.S.C. 7132(b)) and Secretary of Energy Delegation Orders 00-002.00 and 00-001.10 provides the Office of Electricity Delivery and Energy reliability the authority to:

(1) Implement section 13 of the Federal Energy Administration Act of 1974 (Pub. L. 93-275) (15 U.S.C. 772), to collect, assemble, evaluate and analyze energy information;

(2) Implement section 11 of the Energy Supply and Environmental Coordination Act of 1974 (ESECA) (Pub. L. 93-319, 15 U.S.C. 796), to request, acquire and collect such energy information as the Secretary of Energy determines to be necessary to assist in the formulation of energy policy or to carry out the purposes of ESECA, and to exercise all energy information reporting authorities provided in section 11;

(3) Carry out the responsibilities assigned to the Secretary of Energy in Homeland Security Presidential Directive (HSPD)-5 (Management of Domestic Incidents) and the National Response Framework adopted pursuant to HSPD-5 with respect to energy supply and distribution and related activities;

(4) Carry out the responsibilities assigned to the Secretary of Energy in HSPD-7 (Critical Infrastructure Identification, Prioritization, and Protection) with respect to energy supply and distribution and related activities;

(5) Carry out the responsibilities assigned to the Secretary of Energy in HSPD-8 (National Preparedness) with respect to energy supply and distribution and related activities; and

(6) Formulate and establish enforcement policy, initiate and conduct investigations, conduct conferences, administrative hearings and public hearings, prepare required reports, issue orders, and take such other action as may be necessary or appropriate to perform any of the above functions.

The DOE, as part of its effort to comply with the Paperwork Reduction Act of 1995 (Pub. L. 104-13, 44 U.S.C. Chapter 35), provides the general public and other Federal agencies with opportunities to comment on collections of energy information. Any comments received help the DOE to prepare data requests that maximize the utility of the information collected, and to assess the impact of collection requirements on the public. Also, the DOE will later seek approval by the Office of Management and Budget (OMB) under section 3507(a) of the Paperwork Reduction Act of 1995.

The purpose of the “Refinery Disruption and Incident Report” would be to provide the Department of Energy with the information necessary to alert it to the existence and severity of a problem with a refinery and its ability to supply the market with petroleum products; the report would also provide contact information should it be necessary for the Department to discuss and address the situation. The report would be filed during an emergency, when certain conditions were met, indicating that a serious problem were occurring at a refinery.

OE proposes to collect information on refinery disruptions and incidents when there is (1) an emergency shutdown of a refinery; or (2) an emergency shutdown of a major unit, processes, or system at a refinery with potential for significant production disruption; or (3) a physical or cyber attack that causes major interruptions to critical refinery facilities, systems or operations. OE proposes to collect “Emergency Alert” information within one hour that indicates when the disruption or incident began, and if it is over, when it ended. In addition, OE proposes to collect information within one hour on the type of disruption or incident and whether the there is any anticipated loss of production of transportation fuels or heating oil as a result of the problem. If there is no production impact, then the one hour Emergency Alert filing is all that is required of a refinery.

OE proposes to collect more information on the disruption or incident within six hours of the occurrence, if there is a projected production impact. OE proposes to collect detailed data on the actions taken as a result of the problem, including the units or processed affected by the disruption or incident and the estimated loss of production in barrels per day of gasoline, gasoline blending stocks, jet fuel, and distillate fuel, including heating oil. OE also proposes to collect detailed information (in a narrative format) regarding: Why the refinery reduced runs or shut down, supply impacts, feedstock deficiencies, storage issues, and distribution problems.

The frame for the report would include operators of all petroleum refineries with a crude distillation capacity of at least 50,000 barrels per day that are located in the 50 States, District of Columbia, Puerto Rico, the Virgin Islands, Guam, and other U.S. possessions. Filing of the report would be mandatory pursuant to Section 13 of the Federal Energy Administration Act of 1974 (Pub. L. 93-275) (15 U.S.C. 772), Section 202(b) of the Department of Energy Organization Act ((DOE Act), Pub. L. 95-91, 42 U.S.C. 7132(b)) and Secretary of Energy Delegation Orders 00-002.00 and 00-001.10, when a disruption or incident meets certain criteria or conditions indicating the situation is significant. This is an emergency report, without any set schedule, that will only be filed when criteria for filing are met. When the criteria are met, it is critical that the report is filed in a timely manner, so the Department of Energy, if necessary, can make policy decisions and take actions to quickly address a petroleum product supply emergency.

The information collected on the report would be used by the Department to perform due diligence on policy recommendations concerning emergency actions. The Department needs accurate information and assessments of impacts and the expected duration of emergency disruptions and incidents at refineries to provide the most effective regulatory relief and restoration assistance.

Information collected on refinery disruptions and incidents will be shared with DOE policy-makers and may be shared with relevant federal and state officials who have emergency authorities to waive certain regulations in order to expedite recovery or mitigate the adverse effects of the disruption. Information that is not protected on Schedule 1 may also be published in OE's Emergency Situation Reports, which provide public information on the status of the energy infrastructure in the United States. All information collected related to actions taken, units or processes affected by the disruption or incident, the estimated losses of production, and any additional information provided in the narrative will be considered protected data. The protected data will be kept confidential and not disclosed to the public to the extent that it satisfies the criteria for exemption under the Freedom of Information Act (FOIA), 5 U.S.C. 552, the DOE regulations, 10 CFR 1004.11, implementing the FOIA, and the Trade Secrets Act, 18 U.S.C. 1905. The Department of Energy (DOE) will protect the information in accordance with its confidentiality and security policies and procedures.

Information on refinery disruptions and incidents and the possible effects on petroleum product supplies are essential to the mission of the DOE in general and to Energy Information Administration and OE, in particular. Data on refinery outages are limited from commercial sources.

Consideration of a proposal for OE to collect information on refinery disruptions and incidents was necessitated by requesters citing the important roles that petroleum product supplies and prices have in the U.S. economy and the potential significant effects of refinery disruptions and incidents. The survey will not collect information on planned, scheduled outages. Public and private analysts must rely on commercially available sources of information for such information, to the extent that it is available.

(4)(II). Current Actions

OE is considering collecting refinery disruption and incident information only during an emergency which meets certain defined conditions. The conditions are:

A. Emergency shutdown of refinery; or

B. Emergency shutdown of a major unit, process, or system at the refinery with potential for significant production disruption; or

C. Physical or cyber attack that causes major interruptions or impacts to critical refinery facilities, systems, or operations.

The information to be reported would include: The date and time of the disruption or incident, its duration, the type of incident, actions taken by the refinery, units or processes affected, and the estimated production impact. The report also asks the respondent to provide a narrative description of the disruption or incident and details on supply impacts, feedstock deficiencies, storage issues or distribution problems, including pipeline, waterborne transport, railroad, or truck loading issues to or from the refinery.

At this time, OE is soliciting public comments on this proposal. OE then plans to request approval from the Office of Management and Budget (OMB) for the new emergency report to collect data on refinery disruptions and incidents.

(4)(III). Request for Comments

A. Is the proposed collection of information necessary for the proper performance of the functions of the agency and does the information have practical utility? Practical utility is defined as the actual usefulness of information, taking into account its accuracy, adequacy, reliability, timeliness, and the agency's ability to process the information it collects.

B. What enhancements can be made to the quality, utility, and clarity of the information to be collected and disseminated?

C. How soon after a disruption or incident would one expect refiners to be able to provide a meaningful estimate of a potential loss in production of transportation fuels and heating oil?

D. Given the availability of public and subscription information regarding refinery disruptions and incidents, please provide detailed reasons why actions taken by a refinery, unit- and process-level information, and estimates of production impacts collected from a refinery should not be considered as public information and releasable to the public in identifiable form. Put another way, why should OE treat such information as protected from public release and consider the information as trade secrets?

E. What, if any, issues or potential questions should OE address in this proposed emergency report and instructions for collecting information on significant disruptions and incidents affecting refinery operations?

F. The “Refinery Disruption and Incident Report” is expected to take one hour to fill out per response. The estimated burden includes the total time necessary to provide the requested information. In your opinion, how accurate is this estimate? Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency or any private organization collect similar information? If so, specify the agency/organization, the data element(s), the methods of collection, and what additional value would be derived from OE undertaking a collection of that information.

Comments submitted in response to this notice will be summarized and/or included in the request for OMB approval of the collection of the information on refinery disruptions and incidents. They also will become a matter of public record.

(5) Respondents: 100 Respondents—100 refinery operators (number not expected to change over the next three years);

(6) Estimated Number of Burden Hours: OE estimates the annual reporting burden to be 485 hours. OE estimates the respondent burden on the Emergency Report for Schedule 1 to be about six minutes. OE estimates the respondent burden on the Status Report (Schedule 1 & Schedule 2) to be about 1 hour per response. OE estimates the respondent burden on the Final Report (Schedule 1 & Schedule 2) to be about 1 hour per response. OE estimates 150 Emergency Report filings with no production impact and 200 Emergency Report filing with a production impact. The 200 Emergency Report filings with production impact will require Status Reports and Final Reports to be filed. OE assumes about 50 respondents will file two Status Reports.

Statutory Authority: Section 3507(h)(1) of the Paperwork Reduction Act of 1995 (Pub. L. 104-13, 44 U.S.C. Chapter 35), Section 202(b) of the Department of Energy Organization Act ((DOE Act), Pub. L. 95-91, 42 U.S.C. 7132(b)), Secretary of Energy Delegation Orders 00-002.00 and 00-001.10, Section 13 of the Federal Energy Administration Act of 1974 (Pub. L. 93-275) (15 U.S.C. 772), and Section 11 of the Energy Supply and Environmental Coordination Act of 1974 (ESECA) (Pub. L. 93-319, 15 U.S.C. 796)

Issued in Washington, DC on June 25th, 2008.
Kevin M. Kolevar,
Assistant Secretary of Energy, Office of Electricity Delivery and Energy Reliability, Infrastructure Security and Energy Restoration Division.

[FR Doc. E8-14886 Filed 6-30-08; 8:45 am]

BILLING CODE 6450-01-P